DEPARTMENT OF TRANSPORTATION

Federal Aviation Administration

14 CFR Part 97

[Docket No. 30461; Amdt. No. 3137]

Standard Instrument Approach Procedures; Miscellaneous Amendments

AGENCY: Federal Aviation Administration (FAA), DOT.

ACTION: Final rule.

SUMMARY: This amendment amends Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: This rule is effective October 20, 2005. The compliance date for each SIAP is specified in the amendatory provisions.

The incorporation by reference of certain publications listed in the regulations is approved by the Director of the Federal Register as of October 20, 2005.

ADDRESSES: Availability of matter incorporated by reference in the amendment is as follows:

For Examination—

1. FAA Rules Docket, FAA Headquarters Building, 800 Independence Ave., SW., Washington, DC 20591;

2. The FAA Regional Office of the region in which affected airport is located; or

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd. Oklahoma City, OK. 73169 (Mail Address: P.O. Box 25082 Oklahoma City, OK 73125) telephone: (405) 954-4164.

SUPPLEMENTARY INFORMATION: This amendment to Title 14, Code of Federal Regulations, Part 97 (14 CFR part 97) amends Standard Instrument Approach Procedures (SIAPs). The complete regulatory description of each SIAP is contained in the appropriate FAA Form 8260, as modified by the the National Flight Data Center (FDC)/Permanent Notice to Airmen (P-NOTAM), which is incorporated by reference in the amendment under 5 U.S.C. 552(a), 1 CFR part 51, and § 97.20 of the Code of Federal Regulations. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR sections, with the types and effective dates of the SIAPs. This amendment also identifies the airport, its location, the procedure identification and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these chart changes to SIAPs, the TERPS criteria were applied to only these specific conditions existing at the affected airports. All SIAP amendments in this rule have been previously issued by the FAA in a FDC NOTAM as an emergency action of immediate flight safety relating directly to published aeronautical charts. The circumstances which created the need for all these SIAP amendments requires making them effective in less than 30 days.

Further, the SIAPs contained in this amendment are based on the criteria contained in TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on October 7, 2005.
James J. Ballough,
Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS/DME, MLS/RNAV; § 97.31 RADAR SIAPs; § 97.33 RNAV, SIAPs; and § 97.35 COPTER SIAPs, Identified as follows:

Effective Upon Publication

FDC date | State | City | Airport | FDC No. | Subject
09/23/05 | AL | Huntsville | Huntsville Intl—Carl T. Jones Field | FDC 5/8672 | VOR-A, Amdt 12A.
09/26/05 | ND | Fargo | Hector Intl | FDC 5/8737 | ILS or LOC Rwy 36, Orig-A.
09/27/05 | IN | South Bend | South Bend Regional | FDC 5/8745 | ILS or LOC Rwy, 27L, Amdt 35A.
09/28/05 | MO | Columbia | Columbia Regional | FDC 5/8871 | VOR Rwy 13, Amdt 3A.
09/29/05 | MN | Minneapolis | Minneapolis-St Paul Intl (Wold-Chamberlain) | FDC 5/8891 | ILS PRM Rwy 12L, Amdt 4A.
09/29/05 | MN | Minneapolis | Minneapolis-St Paul Intl (Wold-Chamberlain) | FDC 5/8892 | ILS PRM Rwy 12R, Amdt 3A.
09/29/05 | AK | Chevak | Chevak | FDC 5/8907 | RNAV (GPS) Rwy 14, Orig-A.
09/29/05 | AK | Chevak | Chevak | FDC 5/8908 | RNAV(GPS) Rwy 32, Orig-A.
09/29/05 | AK | Dillingham | Dillingham | FDC 5/8909 | RNAV (GPS), Rwy 19, Orig-B.
09/29/05 | AK | Dillingham | Dillingham | FDC 5/8910 | LOC/DME Rwy 19, Amdt 5A.
09/29/05 | AK | Dillingham | Dillingham | FDC 5/8911 | VOR/DME Rwy 19, Amdt 6A.
09/29/05 | AK | Dillingham | Dillingham | FDC 5/8912 | VOR Rwy 1, Amdt 8A.
09/29/05 | AK | Dillingham | Dillingham | FDC 5/8913 | NDB Rwy 1, Amdt 1A.
10/05/05 | AR | Jonesboro | Jonesboro Muni | FDC 5/8965 | ILS or LOC Rwy 23, Orig-B.
09/30/05 | AK | Kotzebue | Ralph Wien Memorial | FDC 5/8969 | RNAV (GPS) Rwy 26, Orig-A.
09/30/05 | AK | Kotzebue | Ralph Wien Memorial | FDC 5/8970 | VOR/DME Rwy 8, Amdt 4A.
09/30/05 | AK | Kotzebue | Ralph Wien Memorial | FDC 5/8972 | VOR/DME Rwy 26, Amdt 3A.
09/30/05 | AK | Kotzebue | Ralph Wien Memorial | FDC 5/8974 | ILS or LOC/DME Rwy 8, Orig-A.
09/30/05 | AK | Kotzebue | Ralph Wien Memorial | FDC 5/8975 | VOR/DME Z Rwy 26, Orig-A.
09/30/05 | AK | Kotzebue | Ralph Wien Memorial | FDC 5/8976 | VOR RWY 8, AMDT 3b.
09/30/05 | AK | Kotzebue | Ralph Wien Memorial | FDC 5/8977 | VOR/DME Y Rwy 26, Orig-A.
09/30/05 | AK | Kotzebue | Ralph Wien Memorial | FDC 5/8978 | RNAV (GPS) Rwy 8, Orig-A.
10/03/05 | ID | Coeur D'Alene | Coeur D'Alene Air Terminal | FDC 5/9037 | ILS Rwy 5, Amdt 4B.
10/05/05 | IA | Des Moines | Des Moines Intl | FDC 5/9052 | RNAV (GPS) Rwy 23, Orig A.
10/05/05 | IA | Des Moines | Des Moines Intl | FDC 5/9053 | VOR/DME Rwy 23, Orig A.
10/05/05 | IA | Red Oak | Red Oak Muni | FDC 5/9054 | NDB Rwy 17, Amdt 8A.
10/05/05 | IA | Mason City | Mason City Muni | FDC 5/9056 | VOR Rwy 36, Amdt 6A.
10/05/05 | IA | Mason City | Mason City Muni | FDC 5/9057 | ILS or LOC Rwy 36, Amdt 6B.
10/05/05 | IA | Mason City | Mason City Muni | FDC 5/9058 | VOR Rwy 18, Amdt 4A.
10/05/05 | IA | Mason City | Mason City Muni | FDC 5/9060 | LOC BC Rwy 18, Amdt 6A.
10/05/05 | OK | Norman | University of Oklahoma Westheimer | FDC 5/9084 | LOC Rwy 3, Amdt 3F.
10/05/05 | OK | Norman | University of Oklahoma Westheimer | FDC 5/9086 | NDB Rwy 3, Orig-A.
10/05/05 | OK | Norman | University of Oklahoma Westheimer | FDC 5/9088 | VOR/DME RNAV,Rwy 3, Orig-G.
10/05/05 | OK | Norman | University of Oklahoma Westheimer | FDC 5/9092 | NDB Rwy 35, Orig-A.
10/05/05 | OK | Blackwell | Blackwell | FDC 5/9094 | VOR-A, Amdt 3A.
10/04/05 | AK | Barrow | Wiley Post-Will Rogers Memorial | FDC 5/9104 | VOR/DME Rwy 24, Amdt 1A.
10/04/05 | AK | Barrow | Wiley Post-Will Rogers Memorial | FDC 5/9106 | RNAV (GPS) Rwy 6, Orig-A.
10/04/05 | AK | Barrow | Wiley Post-Will Rogers Memorial | FDC 5/9107 | LOC/DME BC Rwy 24, Amdt 3B.
10/04/05 | AK | Barrow | Wiley Post-Will Rogers Memorial | FDC 5/9108 | GPS Rwy 24, Orig-B.
10/04/05 | MN | Glenwood | Glenwood Muni | FDC 5/9123 | VOR Rwy 33, Amdt 2A.
10/04/05 | MN | International Falls | International Falls | FDC 5/9124 | ILS or LOC Rwy 31, Amdt 8A.
10/04/05 | WA | Tacoma | Tacoma Narrows | FDC 5/9127 | GPS Rwy 17, Orig-A.
10/04/05 | WA | Tacoma | Tacoma Narrows | FDC 5/9129 | NDB Rwy 35, Amdt 7B.
10/04/05 | WA | Tacoma | Tacoma Narrows | FDC 5/9130 | GPS Rwy 35, Orig-A.
10/04/05 | MN | Rochester | Rochester intl | FDC 5/9144 | VOR Rwy 2, Amdt 17A.
10/05/05 | OK | Claremore | Claremont Regional | FDC 5/9156 | VOR/DME-B Amdt 3A.
10/05/05 | OK | Cushing | Cushing Muni | FDC 5/9158 | NDB Rwy 36, Amdt 4A.
10/05/05 | SD | Rapid City | Rapid City Regional | FDC 5/9164 | VOR or TACAN Rwy 24, Orig-D.
10/05/05 | SD | Rapid City | Rapid City Regional | FDC 5/9165 | VOR or TACAN Rwy 32, Amdt 24D.
10/05/05 | KS | Wichita | Wichita Mid-Continent | FDC5/9177 | ILS or LOC Rwy 1L (Cat 1), ILS Rwy 1L (Cat 11), Amdt 3A.
10/05/05 | KS | Wichita | Wichita Mid-Continent | FDC5/9178 | ILS or LOC Rwy 19R, Amdt 5A.
10/05/05 | KS | Wichita | Wichita Mid-Continent | FDC5/9179 | VOR Rwy 14, Amdt 1C.
10/05/05 | AK | Dillingham | Dillingham | FDC 5/9187 | RNAV (GPS) Rwy 1, Orig-A.
10/05/05 | AK | St Mary's | St Mary's | FDC 5/9189 | RNAV (GPS) Rwy 16, Orig-A.
10/05/05 | AK | Iliamna | Iliamna | FDC 5/9191 | RNAV (GPS) Rwy 7, Amdt 1A.
10/05/05 | AK | Iliamna | Iliamna | FDC 5/9192 | RNAV (GPS) Rwy 17, Orig-A.
10/05/05 | AK | Iliamna | Iliamna | FDC 5/9195 | RNAV (GPS) Rwy 35, Orig-A.
10/05/05 | AK | Barrow | Wiley Post-Will Rogers Memorial | FDC 5/9200 | ILS or LOC/DME Rwy 6, Orig-A.
10/05/05 | LA | Shreveport | Shreveport Downtown | FDC 5/9202 | LOC Rwy 14, Amdt 4D.
10/05/05 | MN | Duluth | Duluth Intl | FDC 5/9203 | ILS or LOC Rwy 27, Amdt 8B.
10/05/05 | KS | Salina | Salina Muni | FDC 5/9207 | ILS or LOC Rwy 35, Amdt 19A.
10/05/05 | KS | Salina | Salina Muni | FDC 5/9208 | VOR Rwy 17, Amdt 1A.
10/05/05 | KS | Salina | Salina Muni | FDC 5/9209 | NDB Rwy 35, Amdt 17A.
10/05/05 | IA | Harlan | Harlan Muni | FDC 5/9224 | NDB Rwy 33, Amdt 5A.
10/05/05 | IA | Muscatine | Muscatine Muni | FDC 5/9225 | VOR Rwy 6, Orig-B.
10/05/05 | IA | Mason City | Mason City Muni | FDC 5/9226 | RNAV (GPS) Rwy 18, Orig A.
10/05/05 | IA | Muscatine | Muscatine Muni | FDC 5/9227 | VOR Rwy 24, Orig-B.
10/05/05 | IA | Mason City | Mason City Muni | FDC 5/9228 | RNAV (GPS) Rwy 36, Orig A.
10/05/05 | LA | Rayville | Rayville/John H Hooks Jr Memorial | FDC 5/9231 | RNAV (GPS) Rwy 36, Orig-A.
10/05/05 | MN | Duluth | Duluth Intl | FDC 5/9236 | Copter ILS or LOC Rwy 27, Orig-A.
10/05/05 | KS | Hays | Hays Regional | FDC 5/9238 | ILS or LOC Rwy 34, Orig-C.
10/05/05 | OK | Clinton | Clinton Sherman | FDC 5/9239 | VOR Rwy 35L, Amdt 11D.
10/05/05 | OK | Clinton | Clinton Sherman | FDC 5/9243 | ILS or LOC Rwy 17R, Amdt 7A.
10/05/05 | LA | Lake Charles | Lake Charles Regional | FDC 5/9263 | Radar 1, Amdt 5A.

[FR Doc. 05-20849 Filed 10-19-05; 8:45 am]

BILLING CODE 4910-13-P